DEPARTMENT OF THE INTERIOR

National Park Service

National Register of Historic Places; Notification of Pending Nominations and Related Actions

Nominations for the following properties being considered for listing or related actions in the National Register were received by the National Park Service before March 5, 2005. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by April 7, 2005.

Carol D. Shull,
Keeper of the National Register of Historic Places.

ARIZONA

Apache County

Painted Desert Community Complex Historic District, One Park Rd., Petrified Forest National Park, 05000284

CALIFORNIA

San Francisco County

Spencer, John, House, 1080 Haight St., San Francisco, 05000273

GEORGIA

Fulton County

Brazeal, Dr. Brailsford R., House, 193 Joseph E. Lowery Blvd., Atlanta, 05000278

IOWA

Crawford County

Carey, John T. and Marietta (Greek) House, 1502 1st Ave. N, Denison, 05000276

Dubuque County

Upper Main Street Historic District, 1000's-1100's Main St., Dubuque, 05000275

MASSACHUSETTS

Norfolk County

Vine Like Cemetery, Main St., Medfield, 05000277

MISSISSIPPI

Neshoba County

Downtown Philadelphia Historic District, Roughly bounded by Myrtle, Peachtree, Walnut, and Pecan, Philadelphia, 05000280

Tippah County

Ripley Historic District, Roughly bounded by North St., Siddall St., MS and Middle St., Ripley, 05000281

MONTANA

Daniels County

LaPierre Barn, Approx. 3.5 mi. NW of Scobey on Tande Ranch Rd., Scobey, 05000279

SOUTH DAKOTA

Brookings County

Vostad Farm, 2905 16th Ave. W, Brookings, 05000283

Roberts County

Knapp Ranch, 13168 450th Ave., Ortley, 05000282

[FR Doc. 05-5757 Filed 3-22-05; 8:45 am]

BILLING CODE 4312-51-P